DEPARTMENT OF DEFENSE

Defense Acquisition Regulations System

[Docket DARS-2020-0007; OMB Control Number 0704-0519]

Information Collection; Defense Federal Acquisition Regulation Supplement (DFARS) Subpart 204.17, Service Contracts Inventory and Associated Clause; Submission for OMB Review; Comment Request

AGENCY: Defense Acquisition Regulations System, Department of Defense (DoD).

ACTION: Notice.

SUMMARY: The Defense Acquisition Regulations System has submitted to OMB for clearance the following proposal for a new collection of information under the provisions of the Paperwork Reduction Act.

DATES: Consideration will be given to all comments received by January 28, 2021.

SUPPLEMENTARY INFORMATION:

Title and OMB Number: Defense Federal Acquisition Regulation Supplement (DFARS); DFARS Subpart 204.17, Service Contracts Inventory and Associated Clause; OMB Control Number 0704-0519.

Affected Public: Businesses and other for-profit entities.

Respondent's Obligation: Required to obtain or retain benefits.

Type of Request: Approval of a new information collection.

Reporting Frequency: Annually.

Number of Respondents: 1,934.

Responses per Respondent: 2.267, approximately.

Annual Responses: 4,386.

Average Burden per Response: 2 hours.

Total Annual Burden Hours: 8,772.

Needs and Uses: 10 U.S.C. 2330a, as amended by section 812 of National Defense Authorization Act for Fiscal Year 2017, requires DoD to establish a data collection system to provide certain management information with regard to each purchase of services by a Military Department or Agency that is in excess of $3 million for services in the following service acquisition portfolio groups: Logistics management services, equipment-related services, knowledge-based services, and electronics and communications services. New DFARS clause 252.204-70XX, Reporting Requirements for Contracted Services, requires a contractor to report annually, in the System for Award Management, on the services performed under the contract or order, during the preceding Government fiscal year. Specifically, the contractor is required to report the total dollar amount invoiced for services performed during the preceding fiscal year and the number of direct labor hours, including subcontractor hours (when applicable), expended on services performed during the previous Government fiscal year.

The information collection will provide DoD with the ability to identify and report annually to Congress, in accordance with 10 U.S.C. 2330a, on the inventory of contractor service contract actions. As an adjunct, the information will support DoD's total force management and in making strategic workforce planning and budget decisions pursuant to 10 U.S.C. 129a.

Comments and recommendations on the proposed information collection should be sent to Ms. Susan Minson, DoD Desk Officer, at Oira_submission@omb.eop.gov. Please identify the proposed information collection by DoD Desk Officer, the Docket number, and title of the information collection.

You may also submit comments, identified by docket number and title, by the following method: Federal eRulemaking Portal: http://www.regulations.gov. Follow the instructions for submitting comments.

DoD Clearance Officer: Ms. Angela James. Requests for copies of the information collection proposal should be sent to Ms. Angela James at whs.mc-alex.esd.mbx.dd-dod-information-collections@mail.mil.

Jennifer D. Johnson,
Regulatory Control Officer, Defense Acquisition Regulations System.

[FR Doc. 2020-28774 Filed 12-28-20; 8:45 am]

BILLING CODE 5001-06-P